NUCLEAR REGULATORY COMMISSION

[Docket No. NRC-2010-0338]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register notice with a 60-day comment period on this information collection on November 29, 2010.

1. Type of submission, new, revision, or extension: Extension.

2. The title of the information collection: “DOE/NRC Form 741 (Nuclear Material Transaction Report) and Associated Instructions (NUREG/BR-0006).”

3. Current OMB approval number: 3150-0003.

4. The form number if applicable: NRC Form 741.

5. How often the collection is required: Form 741 is submitted when specified events occur (nuclear material or source material transfers, receipts, or inventory changes).

6. Who will be required or asked to report: Persons licensed to possess specified quantities of special nuclear material or source material. Any licensee who ships, receives, or otherwise undergoes an inventory change of special nuclear or source material is required to submit a Form 741 to document the change.

7. An estimate of the number of annual responses: 16,493.

8. The estimated number of annual respondents: 400.

9. An estimate of the total number of hours needed annually to complete the requirement or request: 20,616.

10. Abstract: NRC is required to collect nuclear material transaction information for domestic safeguards use and make it available to the International Atomic Energy Agency (IAEA). Licensees use Form 741 to make inventory and accounting reports for certain source or special nuclear material, or for transfer or receipt of 1 kilogram or more of source material. This form enables NRC to collect, retrieve, analyze, and submit the data to IAEA to fulfill its reporting responsibilities.

The public may examine and have copied for a fee publicly available documents, including the final supporting statement, at the NRC's Public Document Room, Room O-1 F21, One White Flint North, 11555 Rockville Pike, Rockville, Maryland. OMB clearance requests are available at the NRC worldwide Web site: http://www.nrc.gov/public-involve/doc-comment/omb/index.html. The document will be available on the NRC home page site for 60 days after the signature date of this notice.

Comments and questions should be directed to the OMB reviewer listed below by April 8, 2011. Comments received after this date will be considered if it is practical to do so, but assurance of consideration cannot be given to comments received after this date.

Christine J. Kymn, Desk Officer, Office of Information and Regulatory Affairs (3150-0003), NEOB-10202, Office of Management and Budget, Washington, DC 20503.

Comments can also be e-mailed to Christine.J.Kymn@omb.eop.gov or submitted by telephone at (202) 395-4638.

The NRC Clearance Officer is Tremaine Donnell, (301) 415-6258.

Dated at Rockville, Maryland, this 1st day of March, 2011.
For the Nuclear Regulatory Commission.
Tremaine Donnell,
NRC Clearance Officer, Office of Information Services.

[FR Doc. 2011-5344 Filed 3-8-11; 8:45 am]

BILLING CODE 7590-01-P